DEPARTMENT OF DEFENSE

Department of the Army; Corps of Engineers

Availability of Draft General Reevaluation Report and Supplemental Environmental Impact Statement for the Poplar Island Environmental Restoration Project, Talbot County, MD

Correction

In notice document 05-12307 appearing on page 36129 in the issue of Wednesday, June 22, 2005, make the following corrections:

1. On page 36129, in the first column, under the DATES heading, in the sixth line, “BRR” should read “GRR”.

2. On the same page, in the third column, in the first full paragraph, in the 10th line, “Jul6” should read “July”.

[FR Doc. C5-12307 Filed 6-27-05; 8:45 am]

BILLING CODE 1505-01-D

DEPARTMENT OF DEFENSE

Department of the Army

Availability of Non-Exclusive, Exclusive License or Partially Exclusive Licensing of U.S. Patent Concerning Method and Apparatus for Making Body Heating and Cooling Garments

Correction

In notice document 05-12309 appearing on page 36128 in the issue of Wednesday, June 22, 2005, make the following corrections:

1. On page 36128, in the third column, under the FOR FURTHER INFORMATION CONTACT heading, in the second line, “Rosendrans” should read “Rosenkrans”.

2. On the same page, in the same column, under the same heading, in the fourth line, “4938” should read “4928”.

[FR Doc. C5-12309 Filed 6-27-05; 8:45 am]

BILLING CODE 1505-01-D

DEPARTMENT OF TRANSPORTATION

Federal Aviation Administration

14 CFR Part 39

[Docket No. FAA-2004-18998; Directorate Identifier 2003-NM-253-AD; Amendment 39-14121; AD 2005-12-05]

RIN 2120-AA64

Airworthiness Directives; Boeing Model 737-200, 737-300, 737-400, 737-500, 737-600, 737-700, 737-800, 737-900, 757-200, and 757-300 Series Airplanes; and McDonnell Douglas Model DC-10-10, DC-10-10F, DC-10-30, DC-10-30F, DC-10-40, MD-10-10F, MD-10-30F, MD-11, and MD-11F Airplanes

Correction

In rule document 05-11514 beginning on page 34316 in the issue of Tuesday, June 14, 2005, make the following correction:

§ 39.13 [Corrected]

On page 34322, in § 39.13, in Table 6, in the first column, in the sixth entry, “B2105200-52-01” should read “B251200-52-01”.

[FR Doc. C5-11514 Filed 6-27-05; 8:45 am]

BILLING CODE 1505-01-D

DEPARTMENT OF TRANSPORTATION

Federal Aviation Administration

14 CFR Part 39

[Docket No. FAA-05-21176; Directorate Identifier 2005-CE-25-AD; Amendment 39-14128; AD 2005-12-12]

RIN 2120-AA64

Airworthiness Directives; Cessna Aircraft Company Models 401, 401A, 401B, 402, 402A, 402B, 411, and 411A Airplanes

Correction

In rule document 05-11612 beginning on page 34329 in the issue of Tuesday, June 14, 2005, make the following corrections:

§ 39.13 [Corrected]

1. On page 34332, in § 39.13, in the table, in the third column, in the first entry, in the first line, “1000” should read “100”.

2. On the same page, in the same section, in the same table, in the first column, in the second entry, “12,00” should read “12,000”.

[FR Doc. C5-11612 Filed 6-27-05; 8:45 am]

BILLING CODE 1505-01-D